DEPARTMENT OF HOUSING AND URBAN DEVELOPMENT

[Docket No. FR-4907-N17]

Notice of Proposed Information Collection: Comment Request; Review of Health Care Facility Portfolios

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 6, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Michael McCullough, Director, Office of Multifamily Housing Development, Department of Housing and Urban Development, 451 7th Street SW., Washington, DC 20410, telephone (202) 708-1142 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Review of Health Care Facility Portfolios.

OMB Control Number, if applicable: 2502-0545.

Description of the need for the information and proposed use: An owner and/or an operator of health care facilities (nursing homes, intermediate care facilities, board and care facilities, or assisted living facilities) may wish to finance or refinance large groups of those facilities. Owners and/or operators of health care facilities applying for finance or refinance a minimum of 11 health care facilities, with combined estimated mortgage amount of $75 million or more during an 18 month period must furnish information that was not previously required with the application for mortgage insurance. The owner and/or operator will be acting with an FHA-approved lender or a MAP-approved lender. The information includes a Corporate Credit Analysis to be submitted to a credit rating agency (Standard & Poor's, Moody's Investor Services, Fitch IBCA, Duff & Phelps). The Corporate Credit Analysis includes detailed financial information, management policies, and corporate strategy. Owners/operators with 50 or more projects, with an estimated combined mortgage amount of $250 million or more must file, in addition to the Corporate Credit Analysis, detailed information that is required for non-portfolio owners in connection with the site visit. These large-size owners/operators must also provide information on their other properties and other business ventures not being financed.

The information is collected and evaluated, first by a rating agency and then by HUD. The purpose is to determine the financial strength and management reliability of the owner/operator. If the owner and/or the operator should go into bankruptcy or be unable to continue management of its large group of properties, to keep operating successfully would be severely jeopardized. The failure of the owner/operator could lead to large number of claims against the mortgage insurance fund.

Agency form numbers, if applicable: None.

Estimation of the total numbers of hours needed to prepare the information collection including number of respondents, frequency of response, and hours of response: The estimated number of burden hours needed to prepare the information collection is 1,200; the number of respondents is 15 generating approximately 15 annual responses; the frequency of response is on occasion; and the estimated time needed to prepare the response 80 hours (80 hours × 15 responses=1200 burden hours).

Status of the proposed information collection: Extension of currently approved collection.

Authority: The Paperwork Reduction Act of 1995, 44 U.S.C., Chapter 35, as amended.

Dated: April 23, 2004.
Sean G. Cassidy,
General Deputy Assistant Secretary for Housing—Deputy Federal Housing Commissioner.

[FR Doc. 04-10109 Filed 5-3-04; 8:45 am]

BILLING CODE 4210-27-M